DEPARTMENT OF TRANSPORTATION

Coast Guard

33 CFR Part 165

[COTP Southeast Alaska 00-005]

RIN 2115-AA97

Safety Zone; Gastineau Channel, Juneau, AK

AGENCY: Coast Guard, DOT.

ACTION: Temporary final rule.

SUMMARY: The Coast Guard is establishing a temporary safety zone along the navigable waters of Gastineau Channel, Juneau, Alaska to encompass the vessel conducting fireworks display activities. The safety zone is needed to protect maritime vessels and to minimize traffic for the safety and protection of both the vessel conducting fireworks display activities and other vessels in the immediate proximity.

This safety zone will encompass the waters within a 300 yard radius of the vessel situated at approximately 58°17′41″ N, 134°24′22″ W. Entry into, transit through or anchoring within this Safety Zone is prohibited unless authorized by the Captain of the Port Southeast Alaska or the Coast Guard vessel on-scene via VHF-FM channel 16.

DATES: This temporary final rule becomes effective at 10 p.m. July 3, 2000 and terminates at 2 a.m. July 4, 2000.

ADDRESSES: Documents as indicated in this preamble are available for inspection or copying at U.S. Coast Guard, Marine Safety Office, 2760 Sherwood Lane, Suite 2A, Juneau, Alaska between 8 a.m. and 3 p.m., Monday through Friday, except Federal holidays. The telephone number is (907) 463-2450.

FOR FUTHER INFORMATION CONTACT: Lieutenant Cecil McNutt Jr., Chief, Port Operations, U.S. Coast Guard Marine Safety Office Juneau; (907) 463-2470.

SUPPLEMENTARY INFORMATION:

Regulatory History

A notice of proposed rulemaking (NPRM) was not published for this regulation. In keeping with requirements of 5 U.S.C. 553(B), the Coast Guard finds a good cause exists for not publishing a NPRM. In keeping with requirements of 5 U.S.C. 553 (d)(3), the Coast Guard also finds that cause exists for making this regulation effective less than 30 days after publication in the Federal Register due to receipt of application for this marine event was not received until June 6, 2000. Publication of a NPRM and delay of effective date would be contrary to the public interest because immediate action is necessary to protect the safety of the maritime vessel traffic.

Background and Purpose

Each year, on or about the 3rd of July, a tug vessel with a barge conducts fireworks display activities within an established 100 yd safety zone (33 CFR 165.1706) located on the navigable waters of Gastineau Channel, mid-channel off the shoreline of the city of Juneau, AK. This year will differ slightly from the established safety zone, in that a blast or fallout radius of 300 yards is required for the city authorized 12-inch fireworks display shells and 600 lbs of Division 1.3G (UN 0335) Fireworks.

This will occur at 12 a.m. ADT, and will last approximately 1 hour. This safety zone is necessary to protect the maritime public from the fallout hazards created by the vessel conducting firework display activities.

Regulatory Evaluation

This temporary rule is not a significant regulatory action under section 3(f) of the Executive Order 12866 and does not require an assessment of potential costs and benefits under sections 6(a)(3) of that Order. It has been exempted from review by the Office of Management and Budget under that Order. It is not significant under the regulatory policies and procedures of the Department of Transportation (DOT) (44 FR 11040; February 26, 1979). The Coast Guard expects the economic impact of this proposal to be so minimal that a full Regulatory Evaluation under paragraph 10(e) of the regulatory policies and procedures of DOT is unnecessary.

Small Entities

Under the Regulatory Flexibility Act (5 U.S.C. 601 et seq.), the Coast Guard must consider whether this rule will have a significant impact on a substantial number of small businesses and not-for-profit organizations that are not dominant in their respective fields, and governmental jurisdictions with populations less than 50,000. For the same reasons set forth in the above Regulatory Evaluation, the Coast Guard certifies under Section 605 (b) of the Regulatory Flexibility Act (5 U.S.C. 601 et seq.) that this temporary final rule will not have a significant economic impact on a substantial number of small entities.

Assistance for Small Entities

In accordance with Sec. 213 (a) of the Small Business Regulatory Enforcement Fairness Act of 1996 (Pub. L. 104-121), the Coast Guard wants to assist small entities in understanding this rule so that they can better evaluate its effects on them and participate in the rulemaking process. If your small business or organization is affected by this rule and you have questions concerning its provisions or options for compliance, please contact the office listed in ADDRESSES in this preamble.

Collection of Information

This rule contains no information collection requirements under the Paperwork Reduction Act of 1995 (44 US.C. 3501 et seq.).

Federalism

The Coast Guard has analyzed this temporary final rule under the principles and criteria contained in Executive Order 13132 and has determined that this temporary final rule does not have sufficient federalism implications to warrant the preparation of a Federalism Assessment.

Environment

The Coast Guard considered the environmental impact of this temporary final rule and concluded that, under figure 2-1, paragraph (34)(g), of Commandant Instruction M16475.1C, this temporary final rule is categorically excluded from further environmental documentation. A “Categorical Exclusion Determination” is available in the docket for inspection or copying where indicated under ADDRESSES.

Unfunded Mandates

The Unfunded Mandates Reform Act of 1995 (2 U.S.C. 1531-1538) and E.O. 12875, Enhancing the Intergovernmental Partnership, (58 FR 58093; October 28, 1993) govern the issuance of Federal regulations that require unfunded mandates. An unfunded mandate is a regulation that requires a State, local, or tribal government or the private sector to incur direct costs without the Federal Government's having first provided the funds to pay those costs. This rule will not impose an unfunded mandate.

List of Subjects in 33 CFR Part 165

Harbors, Marine safety, Navigation (water), Reporting and record keeping requirements, Security measures, Waterways.

For the reasons set out in the preamble, the Coast Guard amends 33 CFR part 165 as follows:

PART 165—[AMENDED]

1. The authority citation for Part 165 continues to read as follows:

Authority: 33 U.S.C. 1231: 50 U.S.C. 191; 33 CFR 1.05-1(g), 6.04-1, 6.04-6, and 160.5; 49 CFR 1.46.

2. A new temporary § 165.T17-005 is added to read as follows:

§ 165.T17-005 Gastineau Channel, Juneau, Alaska—Safety Zone.

(a) Location. The following area is a temporary safety zone: the waters in Juneau Harbor within a 300 yard radius of the vessel engaged in firework display activities, situated at approximately 58°17′41″ N, 134°24′22″ W.

(b) Effective Dates. This regulation becomes effective at 10 p.m. July 3, 2000 and terminates at 2 a.m. July 4, 2000.

(c) Regulations. In accordance with the general regulations in § 165.23 of this part, entry into, transit through, or anchoring within this safety zone is prohibited except as authorized by the Captain of the Port-Southeast Alaska, or the Coast Guard vessel on scene via VHF-FM Channel 16.

Dated: June 21, 2000.
B.J. Peter,
Lieutenant Commander, U.S. Coast Guard, Acting Captain of the Port, Southeast Alaska.

[FR Doc. 00-16878 Filed 6-29-00; 1:19 pm]

BILLING CODE 4910-15-P